DEPARTMENT OF EDUCATION

Office of Safe and Drug-Free Schools; Overview Information; Alcohol and Other Drug Prevention Models on College Campuses Grant Competition; Notice Inviting Applications for New Awards for Fiscal Year (FY) 2004

Catalog of Federal Domestic Assistance (CFDA) Number: 84.184N

DATES: Applications Available: March 8, 2004.

Deadline for Transmittal of Applications: April 16, 2004.

Deadline for Intergovernmental Review: June 16, 2004.

Eligible Applicants: Institutions of higher education (IHEs) that offer an associate or baccalaureate degree. To be eligible, an IHE must not have received an award during the previous five fiscal years under recognition programs (CFDA 84.116X or 84.184N) prior to enactment of the No Child Left Behind Act of 2001 (NCLB).

Estimated Available Funds: $750,000. Contingent upon the availability of funds, the Secretary may make additional awards in FY 2005 from the rank-ordered list of unfunded applications from this competition.

Estimated Range of Awards: $50,000-$125,000.

Estimated Average Size of Awards: $75,000.

Estimated Number of Awards: 10.

Note: The Department is not bound by any estimates in this notice.

Project Period: Up to 15 months.

Full Text of Announcement

I. Funding Opportunity Description

Purpose of Program: The Alcohol and Other Drug Prevention Models on College Campuses grant competition provides awards to identify, enhance, further evaluate, and disseminate information about models of alcohol and other drug prevention at IHEs.

Priority: We are establishing this priority for this competition only, in accordance with section 437(d)(1) of the General Education Provisions Act (GEPA) (20 U.S.C. 1232(d)(1)).

Absolute Priority: For this competition this priority is an absolute priority. Under 34 CFR 75.105(c)(3) we consider only applications that meet this priority.

This priority is:

Identify, enhance, further evaluate, and disseminate information about an effective alcohol or other drug prevention program being implemented on the applicant's campus. Under this priority, applicants are required to:

(1) Describe an alcohol or other drug prevention program that has been implemented for at least two full academic years on the applicant's campus;

(2) Provide evidence of the effectiveness of the program;

(3) Provide a plan to enhance and further evaluate the program during the project period; and

(4) Provide a plan to disseminate information to assist other IHEs in implementing a similar program.

Waiver of Proposed Rulemaking: Under the Administrative Procedure Act (5 U.S.C. 553) the Department generally offers interested parties the opportunity to comment on a proposed priority and certain selection process requirements. Section 437(d)(1) of GEPA, however, exempts from this requirement rules governing the first grant competition under a new or substantially revised program authority. This is the first Alcohol and Other Drug Prevention Models on College Campuses grant competition under the Elementary and Secondary Education Act of 1965 (ESEA), as amended by the NCLB. In order to ensure timely grant awards, the Secretary has decided to forego public comment on the priority and selection process requirements under section 437(d)(1) of GEPA. This priority and certain selection process requirements will apply to this grant competition only.

Program Authority: 20 U.S.C. 7131.

Applicable Regulations: The Education Department General Administrative Regulations (EDGAR) in 34 CFR parts 74, 75, 77, 79, 81, 82, 84, 85, 86, 97, 98, and 99.

II. Award Information

Type of Award: Discretionary grants.

Estimated Available Funds: $750,000. Contingent upon the availability of funds, the Secretary may make additional awards in FY 2005 from the rank-ordered list of unfunded applications from this competition.

Estimated Range of Awards: $50,000-$125,000.

Estimated Average Size of Awards: $75,000.

Estimated Number of Awards: 10.

Note: The Department is not bound by any estimates in this notice.

Project Period: Up to 15 months.

III. Eligibility Information

1. Eligible Applicants: Institutions of higher education (IHEs) that offer an associate or baccalaureate degree. To be eligible, an IHE must not have received an award during the previous five fiscal years under recognition programs (CFDA 84.116X or 84.184N) prior to enactment of the NCLB.

2. Cost Sharing or Matching: This competition does not involve cost sharing or matching.

IV. Application and Submission Information

1. Address to Request Application Package: You may obtain an application via the Internet or from the program office. To obtain a copy via the Internet use the following address: http://www.ed.gov/programs/dvpcollege/index.html. To obtain a copy from the program office, write or call the following: Kimberly Light, U.S. Department of Education, Office of Safe and Drug-Free Schools, 400 Maryland Avenue, SW., room 3E222, Washington, DC 20202-6450. Telephone: (202) 260-2647 or by e-mail: kimberly.light@ed.gov.

If you use a telecommunications device for the deaf (TDD), you may call the Federal Information Relay Service (FIRS) at: 1-800-877-5339.

Individuals with disabilities may obtain a copy of the application package in an alternative format (e.g., Braille, large print, audiotape, or computer diskette) by contacting the program contact person listed in this section.

2. Content and Form of Application Submission: Requirements concerning the content of an application, together with the forms you must submit, are in the application package for this competition.

3. Submission Dates and Times:

Applications Available: March 8, 2004.

Deadline for Transmittal of Applications: April 16, 2004. The dates and times for the transmittal of applications by mail or by hand (including a courier service or commercial carrier) are in the application package for this competition. The application package also specifies the hours of operation of the e-Application Web site.

We do not consider an application that does not comply with the deadline requirements.

Deadline for Intergovernmental Review: June 16, 2004.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Instructions and requirements for the transmittal of applications by mail or by hand (including courier service or commercial carrier) are in the application package for this competition.

Pilot Project for Electronic Submission of Applications: We are continuing to expand our pilot project for electronic submission of applications to include additional formula grant programs and additional discretionary grant competitions. The Alcohol and Other Drug Prevention Models on College Campuses grant competition—CFDA number 84.184N is one of the programs included in the pilot project. If you are an applicant under the Alcohol and Other Drug Prevention Models on College Campuses grant competition, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive any additional point value because you submit a grant application in electronic format, nor will we penalize you if you submit an application in paper format.

• You may submit all documents electronically, including the Application for Federal Education Assistance (ED 424), Budget Information—Non-Construction Programs (ED 524), and all necessary assurances and certifications.

• After you electronically submit your application, you will receive an automatic acknowledgement, which will include a PR/Award Number (an identifying number unique to your application).

Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you elect to participate in the e-Application pilot for the Alcohol and Other Drug Prevention Models on College Campuses Grant Competition and you are prevented from submitting your application on the application deadline date because the e-Application system is unavailable, we will grant you an extension of one business day in order to transmit your application electronically, by mail, or by hand delivery. We will grant this extension if—

1. You are a registered user of e-Application, and have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under for Further Information Contact (see VII. Agency Contact) or (2) the e-GRANTS help desk at 1-888-336-8930.

You may access the electronic grant application for the Alcohol and Other Drug Prevention Models on College Campuses Grant Competition at: http://e-grants.ed.gov.

V. Application Review Information

1. Selection Criteria: The selection criteria for this competition are in 34 CFR 75.210 and in the application package for this competition.

2. Review and Selection Process: In addition to the selection criteria, in making awards under this grant program, the Secretary may take into consideration the diversity of activities addressed by the projects in addition to the rank order of applicants.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

VII. Agency Contact

FOR FURTHER INFORMATION CONTACT: Kimberly Light, U.S. Department of Education, Office of Safe and Drug-Free Schools, 400 Maryland Avenue, SW., room 3E222, Washington, DC 20202-6450. Telephone: (202) 260-2647 or by e-mail: kimberly.light@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 2, 2004.
Deborah A. Price,
Deputy Under Secretary for Safe and Drug-Free Schools.

[FR Doc. 04-5154 Filed 3-5-04; 8:45 am]

BILLING CODE 4000-01-P